ENVIRONMENTAL PROTECTION AGENCY

40 CFR Parts 9, 141, and 142

[FRL-6925-7]

RIN 2040-AD43

Revisions to the Interim Enhanced Surface Water Treatment Rule (IESWTR), the Stage 1 Disinfectants and Disinfection Byproducts Rule (Stage 1DBPR), and Revisions to State Primacy Requirements To Implement the Safe Drinking Water Act (SDWA) Amendments

AGENCY: Environmental Protection Agency (EPA).

ACTION: Final rule.

SUMMARY: This final action will make minor revisions to the Interim Enhanced Surface Water Treatment Rule (IESWTR) and the Stage 1 Disinfectants and Disinfection Byproducts Rule (Stage 1 DBPR) which were published December 16, 1998 and the Revisions to State Primacy Requirements to Implement Safe Drinking Water Act (SDWA) Amendments (Primacy Rule) published April 28, 1998. This final rule revises the compliance dates for the IESWTR and the Stage 1 DBPR so that they coincide with calendar quarters. This change will facilitate implementation of both rules. This action also extends the use of new analytical methods to compliance monitoring for long-standing drinking water regulations for total trihalomethanes. In addition, this document corrects typographical errors, replaces inadvertently deleted text, and clarifies some of the regulatory provisions found in the published rules. Lastly, this document contains minor corrections to the Primacy Rule. These regulations relate to the requirements and procedures for States to obtain primary enforcement authority (primacy) for the Public Water System Supervision (PWSS) program under the Safe Drinking Water Act as amended by the 1996 Amendments. At this time, EPA is not taking final action on the proposed changes to § 141.130(a)(1) (consecutive systems) and to § 141.174(b) (filtration sampling requirements). These changes will be considered in future rulemaking.

DATES: This regulation is effective on February 15, 2001. For judicial review purposes, this final rule is promulgated as of 1:00 p.m. EST on January 16, 2001.

ADDRESSES: Public comments, the comment/response document for the April 14, 2000 proposed rule, and applicable Federal Register documents are available for review at EPA's Drinking Water Docket: East Tower Basement, USEPA, 401 M Street, SW., Washington, DC 20460 from 9 a.m. to 4 p.m., EST, Monday through Friday, excluding legal holidays. The record for this rule has been established under docket number W-99-11. For access to docket materials, please call 202-260-3027 to schedule an appointment.

FOR FURTHER INFORMATION CONTACT: Jennifer Melch, Drinking Water Protection Division, Office of Ground Water and Drinking Water (MC-4606), U.S. Environmental Protection Agency, Ariel Rios Building, 1200 Pennsylvania Ave, NW., Washington DC 20460, (202) 260-7035. Information may also be obtained from the EPA Safe Drinking Water Hotline. Callers within the United States may reach the Hotline at (800) 426-4791. The Hotline is open Monday through Friday, excluding Federal holidays, from 9 a.m. to 5:30 p.m. EST.

SUPPLEMENTARY INFORMATION:

Regulated Entities

The entities regulated by the IESWTR and Stage 1 DBPR, and thus by these revisions to those rules, are public water systems. These include community and noncommunity water systems. States are subject to the primacy rule requirements as revised.

Regulated categories and entities include the following:

Category | Examples of potentially regulated entities | SIC
State, Tribal, and Territorial Governments | States, Territories, and Tribes that analyze water samples on behalf of public water systems required to conduct such analysis; States, Territories, and Tribes that operate public water systems required to monitor under the IESWTR or Stage 1 DBPR | 9511
Industry | Private operators of public water systems required to monitor under the IESWTR or Stage 1 DBPR | 9511
Municipalities | Municipal operators of public water systems required to monitor under the IESWTR or Stage 1 DBPR | 9511

This table is not intended to be exhaustive, but rather provides a guide for readers regarding entities likely to be regulated by this action. This table lists the types of entities that EPA is now aware could potentially be regulated by this action. Other types of entities not listed in the table could also be regulated. To determine whether your facility is regulated by this action, you should carefully examine the applicability criteria in §§ 141.2, 141.70, 141.130, 141.170, 142.2, 142.3, and 142.10 of title 40 of the Code of Federal Regulations. If you have questions regarding the applicability of this action to a particular entity, consult the person listed in the preceding FOR FURTHER INFORMATION CONTACT section.

Abbreviations

CWS: Community water system

DBPR: Disinfectant and Disinfection Byproducts Rule

EPA: Environmental Protection Agency

GWUDI: Ground water under the direct influence of surface water

HAA5: Haloacetic Acids (monochloroacetic, dichloroacetic, trichloroacetic, monobromoacetic and dibromoacetic acids)

ICR: Information Collection Request

IESWTR: Interim Enhanced Surface Water Treatment Rule

MCL: Maximum contaminant level

MCLG: Maximum contaminant level goal

MRDL: Maximum residual disinfectant level

MRDLG: Maximum residual disinfectant level goal

NPDWR: National Primary Drinking Water Regulation

NTNCWS: Non-transient, non-community water system

OMB: Office of Management and Budget

Primacy: Primary enforcement responsibility

PWS: Public water system

RFA: Regulatory Flexibility Analysis

SDWA: Safe Drinking Water Act

TNCWS: Transient, non-community water system

TOC: Total organic carbon

TTHM: Total Trihalomethanes (chloroform, bromodichloromethane, dibromochloromethane, and bromoform)

UMRA: Unfunded Mandates Reform Act

Table of Contents

I. Background

II. Today's Action

A. IESWTR and Stage 1 DBPR

1. Shifting Compliance Date of Rules

2. New Analytical Methods Use

3. Regulated Entities Compliance with Stage 1 DBPR

4. TTHM and HAA5 Monitoring and Compliance Provisions

a. Criteria to Return to Routine Monitoring

b. MCL Exceedence Triggers Quarterly Monitoring

c. Compliance Criteria for Systems on Reduced Monitoring

5. Chlorite Provisions

6. Disinfection Byproduct Precursors Provisions

7. System Reporting and Recordkeeping

a. Reporting Requirement Added to IESWTR

b. Clarification of Reporting Tables

8. Filtration Provisions

B. Primacy Rule

III. Administrative Requirements

A. Executive Order 12866—Regulatory Planning and Review

B. Executive Order 13045—Protection of Children from Environmental Health Risks and Safety Risks

C. Unfunded Mandates Reform Act

D. Paperwork Reduction Act

E. Regulatory Flexibility Act (RFA), as amended by the Small Business Regulatory Enforcement Fairness Act of 1996 (SBREFA), 5 U.S.C. 601 et.seq

F. National Technology Transfer and Advancement Act

G. Executive Order 12898—Federal Actions to Address Environmental Justice in Minority Populations and Low-Income Populations

H. Executive Order 13132—Federalism

I. Executive Order 13084—Consultation and Coordination with Indian Tribal Governments

J. Congressional Review Act

I. Background

On December 16, 1998, EPA published the final Interim Enhanced Surface Water Treatment Rule (IESWTR; 63 FR 69478) and Stage 1 Disinfectants and Disinfection Byproducts Rule (Stage 1 DBPR; 63 FR 69390). On April 28, 1998, EPA published the Revisions to State Primacy Requirements to Implement the SDWA Amendments (63 FR 23362). On April 14, 2000, EPA published revisions to the IESWTR, Stage 1 DBPR, and Primacy Rule as a direct final rule (65 FR 20304) and parallel proposed rule (65 FR 20314). On June 13, 2000, EPA withdrew the direct final rule (65 FR 37052) because of receipt of adverse comment and reopened the comment period on the proposed rule, at the request of numerous stakeholders, until July 13, 2000 (65 FR 37092).

IESWTR: The IESWTR was designed to improve control of microbial pathogens, including the protozoan Cryptosporidium, in drinking water and to address risk trade-offs with disinfection byproducts. The IESWTR builds upon the treatment technique requirements of the Surface Water Treatment Rule. Key provisions established in the final IESWTR include: a Maximum Contaminant Level Goal (MCLG) of zero for Cryptosporidium; 2-log Cryptosporidium removal requirements for systems that filter; strengthened combined filter effluent turbidity performance standards and individual filter turbidity monitoring provisions; disinfection benchmark provisions to assure continued levels of microbial protection while facilities take the necessary steps to comply with new disinfection byproduct standards; inclusion of Cryptosporidium in the definition of ground water under the direct influence of surface water (GWUDI) and additional avoidance criteria for unfiltered public water systems; requirements for covers on new finished water reservoirs; and sanitary surveys for all surface water and GWUDI systems regardless of size.

The IESWTR applies to public water systems that use surface water or GWUDI and serve 10,000 or more people, except that the rule requires primacy States to conduct sanitary surveys for all surface water and GWUDI systems regardless of size.

EPA believes that implementation of the IESWTR will significantly reduce the level of Cryptosporidium in finished drinking water supplies through improvements in filtration and reduce the likelihood of the occurrence of cryptosporidiosis outbreaks by providing an increased margin of safety against such outbreaks for some systems. In addition, the filtration provisions of the rule are expected to increase the level of protection from exposure to other pathogens (i.e., Giardia or other waterborne bacterial or viral pathogens).

Stage 1 DBPR: The Stage 1 DBPR was designed to reduce the levels of disinfection byproducts in drinking water supplies. The DBPR established maximum residual disinfectant level goals (MRDLGs) for chlorine, chloramines, and chlorine dioxide; maximum contaminant level goals (MCLGs) for four trihalomethanes (chloroform, bromodichloromethane, dibromochloromethane, and bromoform), two haloacetic acids (dichloroacetic acid and trichloroacetic acid), bromate, and chlorite; and National Primary Drinking Water Regulations (NPDWRs) for three disinfectants (chlorine, chloramines, and chlorine dioxide), two groups of organic disinfection byproducts (total trihalomethanes (TTHM)—a sum of chloroform, bromodichloromethane, dibromochloromethane, and bromoform; and haloacetic acids (HAA5)—the sum of dichloroacetic acid, trichloroacetic acid, monochloroacetic acid and mono- and dibromoacetic acids), and two inorganic disinfection byproducts (chlorite and bromate). The NPDWRs consist of maximum residual disinfectant levels (MRDLs) for these disinfectants and maximum contaminant levels (MCLs) or treatment techniques for their byproducts. The NPDWRs also include monitoring, reporting, and public notification requirements for these compounds.

The Stage 1 DBPR applies to public water systems that are community water systems (CWSs) and nontransient noncommunity water systems (NTNCWSs) that treat water with a chemical disinfectant for either primary or residual treatment. In addition, certain requirements for chlorine dioxide apply to transient noncommunity water systems (TNCWSs).

The Stage 1 DBPR provides public health protection for households that were not previously covered by drinking water rules for disinfection byproducts. The rule adds coverage for CWSs and NTNCWSs serving fewer than 10,000 persons. In addition, the rule, for the first time, provides public health protection from exposure to haloacetic acids, chlorite (a major chlorine dioxide byproduct) and bromate (a major ozone byproduct).

Primacy Rule: This rule codified new statutory requirements under the 1996 Amendments to the Safe Drinking Water Act (SDWA) involving changes to the process and requirements for States to obtain or retain primary enforcement authority for the Public Water System Supervision program under section 1413 of the SDWA and to the definition of a “public water system” under section 1401 of the SDWA.

II. Today's Action

A. IESWTR and Stage 1 DBPR

This document revises the IESWTR and Stage 1 DBPR to move compliance dates to facilitate implementation, correct typographical errors identified in these rules, replace text inadvertently deleted, delete incorrect text, and clarify certain provisions in the final rules. The revisions include the following modifications:

1. Shifting Compliance Date of Rules

Today's rule finalizes provisions in the April 14, 2000 proposed rule that revise the compliance dates of both rules by extending them approximately two weeks. This shift will facilitate the implementation of the IESWTR and the Stage 1 DBPR as the monitoring periods for both rules will coincide with calendar quarters and consequently with the monitoring periods for other contaminants.

Summary of Comments and Response

There were no significant comments on shifting the compliance date of the rules and therefore EPA is finalizing this provision as proposed.

2. New Analytical Methods Use

Today's rule finalizes the proposed action modifying § 141.30 to extend the use of new analytical methods included in the DBPR § 141.131(b) for compliance monitoring for long-standing drinking water regulations at § 141.30 for total trihalomethanes.

Summary of Comments and Response

There were no significant comments on extending the use of analytical methods in the Stage 1 DBPR and therefore EPA is finalizing this provision as proposed.

3. Regulated Entities Compliance With Stage 1 DBPR

After evaluating the comments on the proposal, EPA is not taking final action at this time on the proposed changes to § 141.130(a). EPA proposed the change to § 141.130(a) to clarify which systems must meet the new MCLs and MRDLs under the Stage 1 DBPR. The current language specifies that systems which “add a chemical disinfectant to the water in any part of the drinking water treatment process” are responsible for complying with the rule. EPA proposed a clarification adding “or systems which provide water that contains a chemical disinfectant.” EPA intended to include all consecutive systems in the original rule making and included them in the regulatory impact analyses for the original rule. EPA will consider this issue in the future. The September 2000 Stage 2 M-DBP Agreement in Principle contains a recommendation at section 3.1.c. on “Wholesale and Consecutive Systems” that states:

“The FACA (Federal Advisory Committee Act group) has considered the issues of consecutive systems and recommends that EPA propose that all wholesale and consecutive systems must comply with the provisions of the Stage 2 DBPR on the same schedule required of the wholesale or consecutive system serving the largest population in the combined distribution system.

Principles:

• Consumers in consecutive systems should be just as well protected as customers of all systems, and

• Monitoring provisions should be tailored to meet the first principle.

The FACA recognizes that there may be issues that have not been fully explored or completely analyzed and therefore recommends that EPA solicit comments.”

Therefore, EPA plans to seek further comment on this issue in the proposal for the Stage 2 M-DBP rule making.

4. TTHM and HAA5 Monitoring and Compliance Provisions

The regulatory language addressing TTHM and HAA5 monitoring and compliance determination has been revised to clarify the intention of the regulatory requirements in § 141.132(b)(1). Sections a. through c. below discuss these revisions.

a. Criteria To Return to Routine Monitoring

This clarification specifies the criteria under which certain subpart H systems may return to routine monitoring from increased monitoring. The systems affected by this revision are those that use surface water or ground water under the direct influence of surface water serving <500 people and ground water systems serving <10,000 people on increased monitoring. Such systems are required to increase monitoring if the compliance sample or average of annual compliance samples, if more than one sample is taken, exceeds the MCL. The rule language in the 1998 Stage 1 DBPR omitted criteria that would govern returning to routine monitoring from increased monitoring. EPA proposed that systems on increased monitoring may return to routine monitoring if their TTHM annual average was 0.040 mg/L or less and their HAA5 annual average was 0.030 mg/L or less; these values are consistent with the criteria for reduced monitoring for other systems on quarterly monitoring. However, a number of commentors urged EPA to allow systems on increased monitoring to return to routine monitoring if their TTHM annual average is 0.060 mg/L or less and their HAA5 annual average is 0.045 mg/L or less; these values were discussed in the preamble to the 1998 rule. These are the same values that trigger systems to return to routine monitoring from reduced monitoring. EPA is persuaded by these commentors and is promulgating these criteria. A corresponding change is reflected in the table in § 141.132(b)(1). Also, the reference “paragraph c” in the third and fifth entries of the proposal will be replaced by “paragraph (b)(1)(iv)” in today's final rule.

b. MCL Exceedence Triggers Quarterly Monitoring

Today's rule finalizes the proposed action which clarifies the monitoring requirements for ground water systems serving <10,000 on reduced monitoring (one sample per plant every 3 years). As issued in 1998, there was concern that the Stage 1 DBPR language was ambiguous. The proposed rule clarified that in the situation where a sample collected during reduced monitoring exceeds the MCL, EPA's intention is to assure that the system would be triggered into quarterly monitoring immediately following the exceedence rather than first return to routine monitoring (one sample per plant per year).

Summary of Comments and Response

There were no significant comments on this clarification and therefore EPA is finalizing these revisions as proposed.

c. Compliance Criteria for Systems on Reduced Monitoring

EPA is finalizing the proposed clarification on compliance determination for TTHM and HAA5 in § 141.133(b)(1). The clarification deals specifically with systems monitoring less frequently than quarterly with TTHM or HAA5 sample results above the MCL. Compliance should not be calculated based solely on a sample taken at a frequency less than quarterly. The intention of the rule is that these systems should immediately begin quarterly monitoring. Compliance should be determined based on the results of four consecutive quarters of monitoring (averaging the sample results from the sample that triggered the increased monitoring and the following three quarters of monitoring). For systems with exceptionally high levels of DBPs, compliance could be calculated with fewer than four quarters of sampling results. (The exceptions to this are when the results of fewer than four quarters will cause the running annual average to exceed the MCL, or if the system fails to collect the four samples over four consecutive quarters, in which case the MCL is calculated based on the average of the available data for the four-quarter compliance period). This intent is clarified by deleting the last two sentences of § 141.133(b)(1)(i), revising paragraphs (b)(1) (ii) and (iii), and adding new paragraph (b)(1)(iv).

Summary of Comments and Responses

There were no significant comments on this clarification and therefore EPA is finalizing these revisions as proposed.

5. Chlorite Provisions

Today's rule finalizes the proposed revisions to two provisions addressing chlorite. First, EPA is correcting the general requirements for transient non-community water systems (TNCWS) in § 141.130 which incorrectly states that TNCWS must comply with chlorite requirements. This correction is accomplished by deletion of the chlorite reference in paragraph (b)(2).

Second, EPA is clarifying the monitoring provisions in § 141.131(b) for daily chlorite analysis. The Stage 1 DBPR of 1998 required analysis to be performed by a certified lab. Water system personnel, however, are capable of analyzing routine samples for chlorite using amperometric titration. Therefore, language has been added to allow public water system personnel to be approved for such monitoring. This change results in a reduction of the financial and operational burden on systems and will make data available immediately so that operational changes can be made on a more timely basis.

Summary of Comments and Response

There were no significant comments on modifications to the chlorite provisions and therefore EPA is finalizing these revisions as proposed.

6. Disinfection Byproduct Precursor Removal Provisions

This rule finalizes the proposed clarifications to the public notification requirements related to compliance with DBP precursor removal requirements under § 141.133. The revision to § 141.133(d) states that for systems required to meet Step 1 TOC removals, if the value calculated under § 141.135(c)(1)(iv) is less than 1.00, the system has a treatment technique violation and must notify the public.

Today's rule also finalizes proposed language clarifications regarding the Step 2 TOC removal requirements under § 141.135. The revision to the Step 2 TOC removal requirements clarifies that the submitted bench or pilot-scale tests must be used to determine the alternate enhanced coagulation level. In the table in § 141.135(b)(2), “≤60-120” is corrected to read “>60-120” in the heading of the second column and percentage signs—%—are added to all values while the word “percent” is deleted from the three column headings.

Summary of Comments and Response

There were no significant comments on the clarifications to the DBP precursors provisions in Stage 1 DBPR and therefore EPA is finalizing these revisions as proposed.

7. System Reporting and Recordkeeping

a. Reporting Requirement Added to the IESWTR

EPA is finalizing this provision as proposed. The revision adds system reporting requirements which were inadvertently omitted from § 141.175 of the IESWTR. These requirements mirror the reporting requirements in § 141.75 of the Surface Water Treatment Rule. Today's rule requires that when the combined filter effluent sample in a direct or conventional filtration system exceeds the maximum turbidity limit of 1 NTU, the system must inform the State no later than the end of the next business day. Similarly, when the combined filter effluent sample in a system using alternative filtration technologies exceeds the maximum turbidity level set by the State under § 141.173(b), the system must inform the State no later than the end of the next business day.

Summary of Comments and Response

While EPA received several comments supporting this revision, several other commentors disagreed with this correction and stated that the current reporting requirements were sufficient and that requiring systems to inform the State by the end of the next business day was excessive and unnecessary. Additionally, two commentors were unsure whether this requirement applied to individual or combined filter effluent samples.

After review of all comments, EPA has determined that the reporting requirement promulgated today is necessary and not an undue burden. Today's requirement simply parallels the Surface Water Treatment Rule's longstanding reporting requirement (5 NTU) but at the tighter maximum standard promulgated in the IESWTR. Also, a combined filter effluent turbidity above 1 NTU can be an indicator of significant operational or other problems in a water treatment plant. The State should be informed as quickly as possible so that action can be taken to minimize any threat to public health. The burden associated with today's reporting requirement is not expected to increase from the burden associated with the Surface Water Treatment Rule which is covered by the general PWSS program ICR (OMB No. 2040-0090). Even though § 141.175(c) alters (for large systems only) the level at which turbidity exceedences are reported, data indicate that large systems have high compliance rates and we do not expect a significant increase in violations and burden associated with this new level.

b. Clarification of Reporting Tables

Today's rule also adds clarifying text to the § 141.134 reporting tables. These changes will clarify a system's reporting requirements for the disinfectant byproducts, disinfectants, and disinfectant byproduct precursors and enhanced coagulation or enhanced softening.

In the section (b) table, all entries in the “You must report” column are revised to add the citation of the MCL and replace the word “exceeded” with “violated.” In the second entry, under the second reporting requirement, the phrase “last quarter” is replaced with “last monitoring period,” and in the fourth entry, the language in all four reporting requirements is revised. In the section (c) table, all entries in the “You must report” column are revised to add the citation of the MRDL and replace the word “exceeded” with “violated.” In the section (d) table, the first entry is revised by deleting the phrase “prior to continuous disinfection” from the first reporting requirement.

Summary of Comments and Response

Several comments expressed concern that these table revisions change the table format, thus creating inconsistency among the existing tables in § 141.134. EPA agrees with this comment and will work with the Federal Register to ensure consistency.

8. Filtration Provisions

Under the 1998 IESWTR, § 141.174 states that if continuous turbidity monitoring equipment fails, the system must repair or replace the equipment within five working days. In the April 14, 2000 Federal Register, EPA proposed that if a system did not make this repair, it would be assessed a violation. After evaluating the comments on the proposal, EPA is not taking final action on the proposed change at this time. EPA will consider this issue in future microbial rulemaking.

B. Primacy Rule

EPA is finalizing all the primacy rule clarifications as proposed. The final primacy regulations subject to these corrections increase the time for a State to adopt new or revised Federal regulations from 18 months to two years. Inadvertently, this time increase was not reflected in § 142.12(d)(2) of the final regulations. This rule corrects that error.

In addition, this rule updates the interim primacy provision at § 142.12(b)(3)(i). Interim primacy gives States full responsibility for implementation and enforcement during the time that EPA reviews the complete and final primacy revision application, provided that States have full primacy for all prior National Primary Drinking Water Regulations. When extensions to the time frame for submission of primacy revision applications are granted, States must agree to conditions for rule implementation. These conditions are lifted when a State receives primacy. EPA believes that under the SDWA amendments, these conditions should also be lifted when a State receives interim primacy. Inadvertently, this intent was not reflected in the Federal Register of Tuesday, April 28, 1998 (63 FR 23362). Today's change to § 142.12(b)(3)(i) clarifies that the conditions that go with an extension are not necessary after a State receives interim primacy.

Summary of Comments and Response

There were no significant comments on corrections to the Primacy Rule and therefore EPA is finalizing these provisions as proposed.

III. Administrative Requirements

A. Executive Order 12866—Regulatory Planning and Review

Under Executive Order 12866, (58 FR 51735 (October 4, 1993)) the Agency must determine whether the regulatory action is “significant” and therefore subject to OMB review and the requirements of the Executive Order. The Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this rule is not a “significant regulatory action” under the terms of Executive Order 12866 and is therefore not subject to OMB review.

B. Executive Order 13045—Protection of Children From Environmental Health Risks and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency. This final rule is not subject to the Executive Order because it is not economically significant as defined in Executive Order 12866.

C. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's rule makes minor revisions and corrections to three SDWA regulations. EPA has determined that this rule does not contain a Federal mandate that may result in expenditures of $100 million or more for State, local, and tribal governments, in the aggregate, or the private sector in any one year. Thus, today's rule is not subject to the requirements of sections 202 and 205 of the UMRA.

For the same reason, EPA has determined that this rule contains no regulatory requirements that might significantly or uniquely affect small governments. Thus, today's rule is not subject to the requirements of section 203 of UMRA.

D. Paperwork Reduction Act

Under the Paperwork Reduction Act, 44 U.S.C. 3501 et seq., information collection, reporting and recordkeeping requirements must be submitted to the Office of Management and Budget (OMB) for approval. Information Collection Request (ICR) documents for the original IESWTR, Stage 1DBPR and Primacy Rule were prepared by EPA and approved by OMB (OMB Nos. 2040-0205, 2040-0204, and 2040-0915 respectively) and copies may be obtained from Sandy Farmer by mail at OPPE Regulatory Information Division; U.S. Environmental Protection Agency (2137); 401 M St., SW., Washington, DC 20460, by e-mail at: farmer.sandy@epamail.epa.gov, or by calling: (202) 260-2740.

The system reporting requirements contained in § 141.175(c) are covered by the general PWSS program ICR (OMB No. 2040-0090). This ICR calculates the burden associated with reporting turbidity exceedences under § 141.75(a)(5). Although § 141.175(c) alters for large systems the level at which turbidity exceedences are reported, data indicate that such systems already have high compliance rates with the new levels and there would be no significant increase in violations and burden associated with this new level. The part 9 table is amended in this rule to reflect OMB approval of these reporting requirements.

E. Regulatory Flexibility Act (RFA), as amended by the Small Business Regulatory Enforcement Fairness Act of 1996 (SBREFA), 5 U.S.C. 601 et. seq.

The RFA generally requires an agency to prepare a regulatory flexibility analysis of any rule subject to the notice-and-comment rulemaking requirement under the Administrative Procedure Act or any other statute unless the Agency certifies that the rule will not have a significant economic impact on a substantial number of small entities. Small entities include small businesses, small organizations, and small government jurisdictions. This rule makes only minor revisions, corrections, and clarifications to promulgated regulations that will facilitate the implementation of those regulations. This rule does not impose additional burden on any regulated small entity since impacts were included in the original rule analysis. The additional reporting requirements contained in today's rule apply only to systems that serve 10,000 or more people. Thus, I certify that this action will not have a significant economic impact on a substantial number of small entities.

F. National Technology Transfer and Advancement Act

Section 12(d) of the National Technology Transfer and Advancement Act of 1995 (NTTAA), Public Law 104-113 section 12(d) (15 U.S.C. 272 note), directs EPA to use voluntary consensus standards in its regulatory activities unless to do so would be inconsistent with applicable law or otherwise impractical. Voluntary consensus standards are technical standards (e.g., material specifications, test methods, sampling procedures, and business practices) that are developed or adopted by voluntary consensus standards bodies. The NTTAA directs EPA to provide Congress, through the Office of Management and Budget (OMB), explanations when the Agency decides not to use available and applicable voluntary consensus standards.

This action extends the applicability of analytical methods established under the Stage 1 DBPR in the December 16, 1998 Federal Register. In developing the Stage 1 DBPR, EPA's process for selecting analytical test methods was consistent with section 12(d) of the NTTAA. EPA performed literature searches to identify analytical methods from industry, academia and voluntary consensus standards, and provided an opportunity for comment. For a more detailed discussion, refer to page 69457 of the Stage 1 DBPR (63 FR 69390, Dec. 16, 1998). Neither the IESWTR nor the Primacy Rule involve standards subject to this Act.

G. Executive Order 12898—Federal Actions To Address Environmental Justice in Minority Populations and Low-Income Populations

Executive Order 12898—“Federal Actions to Address Environmental Justice in Minority Populations and Low-Income Populations” (February 11, 1994) focuses Federal attention on the environmental and human health conditions of minority populations and low-income populations with the goal of achieving environmental protection for all communities. Today's changes to the IESWTR, Stage 1 DBPR, and Primacy Rule will not diminish the health protection to minority and low-income populations.

H. Executive Order 13132—Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under section 6 of Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This final rule does not have federalism implications. It will not have substantial direct effects on the States, on the relationship between the national government and the States, or on the distribution of power and responsibilities among the various levels of government, as specified in Executive Order 13132. This rule makes only minor revisions, corrections and clarifications to three SDWA rules that were promulgated in 1998. The result of these revisions, corrections and clarifications will be to facilitate the implementation of these regulations at the State and local levels of government. Thus, the requirements of section 6 of the Executive Order do not apply to this rule.

I. Executive Order 13084—Consultation and Coordination With Indian Tribal Governments

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

This rule makes minor revisions, corrections and clarifications to promulgated regulations. It does not significantly or uniquely affect the communities of Indian tribal governments, nor does it impose substantial direct compliance costs on them. Accordingly, the requirements of section 3(b) of Executive Order 13084 do not apply to this rule.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective February 15, 2001.

List of Subjects in 40 CFR Parts 9, 141, and 142

Environmental protection, Analytical methods, Drinking water, Intergovernmental relations, Public utilities, Reporting and recordkeeping requirements, Reservoirs, Utilities, Water supply, Watersheds.

Dated: December 22, 2000.
Carol M. Browner,
Administrator.

For the reasons set out in the preamble, title 40 of the Code of Federal Regulations is amended as follows:

PART 9—OMB APPROVALS UNDER THE PAPERWORK REDUCTION ACT

1. The authority citation for part 9 continues to read:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735; 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. Section 9.1 is amended by removing the entry for § 141.174-141.175 in the table and adding new entries in its place to read as follows:

§ 9.1 [Amended]

* * * * *

40 CFR citation | OMB control No.
* * * * *
141.174(a)-(b) | 2040-0205
141.175 | 2040-0205
141.175(a)-(b) | 2040-0205
141.175(c) | 2040-0090
* * * * *

PART 141—NATIONAL PRIMARY DRINKING WATER REGULATIONS

3. The authority citation for part 141 continues to read:

Authority: 42 U.S.C. 300f, 300g-1, 300g-2, 300g-3, 300g-4, 300g-5, 300g-6, 300j-4, 300j-9, and 300j-11.

§ 141.12 [Amended]

4. Section 141.12 is amended by revising “December 16, 2001” to read “December 31, 2001” and by revising the two occurrences of “December 16, 2003” to read “December 31, 2003”.

§ 141.30 [Amended]

5. Amend § 141.30 by:

a. Revising the first sentence of paragraph (e); and

b. In paragraph (h), revising “December 16, 2001” to read “December 31, 2001”, and revising the two occurrences of “December 16, 2003” to read “December 31, 2003”.

§ 141.30 Total trihalomethanes sampling, analytical and other requirements.

* * * * *

(e) Sampling and analyses made pursuant to this section shall be conducted by one of the total trihalomethanes methods as directed in § 141.24(e), and the Technical Notes on Drinking Water Methods, EPA-600/R-94-173, October 1994, which is available from NTIS, PB-104766, or in § 141.131(b). * * *

* * * * *

§ 141.64 [Amended]

6. Amend § 141.64 by:

a. In paragraph (b)(1), revising “December 16, 2001” to read “January 1, 2002” and revising “December 16, 2003” to read “January 1, 2004”; and

b. In paragraph (b)(2), revising “December 16, 2003” to read “December 31, 2003”.

§ 141.65 [Amended]

7. Section 141.65, paragraphs (b)(1) and (b)(2) are amended by revising “December 16, 2001” to read “January 1, 2002” and revising “December 16, 2003” to read “January 1, 2004”, wherever they appear.

§ 141.71 [Amended]

8. Section 141.71(b)(6) is amended by revising the two occurrences of “December 17, 2001” to read “December 31, 2001”.

§ 141.73 [Amended]

9. Amend § 141.73 by:

a. In paragraph (a)(3), revising “December 17, 2001” to read “January 1, 2002”; and

b. In paragraph (d), revising “December 17, 2001” to read “January 1, 2002”.

§ 141.130 [Amended]

10. Amend § 141.130 by:

a. In paragraphs (b)(1) and (b)(2), revising “December 16, 2001” to read “January 1, 2002” and revising “December 16, 2003” to read “January 1, 2004”; and

b. In paragraph (b)(2), removing the phrase “and chlorite” from the first and second sentences.

§ 141.131 [Amended]

11. Amend § 141.131 by revising the first sentence of paragraph (b)(2) and adding paragraph (b)(3) to read:

§ 141.131 Analytical requirements.

* * * * *

(b) * * *

(2) Analysis under this section for disinfection byproducts must be conducted by laboratories that have received certification by EPA or the State, except as specified under paragraph (b)(3) of this section. * * *

(3) A party approved by EPA or the State must measure daily chlorite samples at the entrance to the distribution system.

* * * * *

§ 141.132 [Amended]

12. Amend § 141.132 by:

a. In paragraph (a)(2), revising the reference “§ 142.16(f)(5)” to read “§ 142.16(h)(5)”;

b. In paragraph (b)(1)(i), revising the third and fifth entries and footnote 2 in the table;

c. In paragraph (b), revising the last two sentences in paragraph (b)(1)(iii), redesignating paragraph (b)(1)(iv) as (b)(1)(v), adding a new paragraph (b)(1)(iv); and

d. In paragraph (c), revising the first sentence after the heading in paragraph (c)(1)(i).

The addition and revisions read as follows:

§ 141.132 Monitoring requirements.

* * * * *

(b) * * *

(1) * * *

(i) * * *

Routine Monitoring Frequency for TTHM and HAA5
Type of system | Minimum monitoring frequency | Sample location in the distribution system
* * * * * * *
Subpart H system serving fewer than 500 persons | One sample per year per treatment plant during month of warmest water temperature. | Locations representing maximum residence time.¹ If the sample (or average of annual samples, if more than one sample is taken) exceeds the MCL, the system must increase monitoring to one sample per treatment plant per quarter, taken at a point reflecting the maximum residence time in the distribution system, until the system meets criteria in paragraph (b)(1)(iv) of this section.
* * * * * * *
System using only ground water not under direct influence of surface water using chemical disinfectant and serving fewer than 10,000 persons | One sample per year per treatment plant ² during month of warmest water temperature. | Locations representing maximum residence time.¹ If the sample (or average of annual samples, if more than one sample is taken) exceeds the MCL, the system must increase monitoring to one sample per treatment plant per quarter, taken at a point reflecting the maximum residence time in the distribution system, until the system meets criteria in paragraph (b)(1)(iv) of this section.
* * * * * * *
¹ If a system elects to sample more frequently than the minimum required, at least 25 percent of all samples collected each quarter (including those taken in excess of the required frequency) must be taken at locations that represent the maximum residence time of the water in the distribution system. The remaining samples must be taken at locations representative of at least average residence time in the distribution system.
² Multiple wells drawing water from a single aquifer may be considered one treatment plant for determining the minimum number of samples required, with State approval in accordance with criteria developed under § 142.16(h)(5) of this chapter.

(ii) * * *

(iii) * * * Systems that do not meet these levels must resume monitoring at the frequency identified in paragraph (b)(1)(i) of this section (minimum monitoring frequency column) in the quarter immediately following the monitoring period in which the system exceeds 0.060 mg/L or 0.045 mg/L for TTHM or HAA5 respectively. For systems using only ground water not under the direct influence of surface water and serving fewer than 10,000 persons, if either the TTHM annual average is >0.080 mg/L or the HAA5 annual average is >0.060 mg/L, the system must go to the increased monitoring identified in paragraph (b)(1)(i) of this section (sample location column) in the quarter immediately following the monitoring period in which the system exceeds 0.080 mg/L or 0.060 mg/L for TTHMs or HAA5 respectively.

(iv) Systems on increased monitoring may return to routine monitoring if, after at least one year of monitoring their TTHM annual average is ≤0.060 mg/L and their HAA5 annual average is ≤0.045 mg/L.

* * * * *

(c) * * *

(1) * * *

(i) Routine Monitoring. Community and nontransient noncommunity water systems that use chlorine or chloramines must measure the residual disinfectant level in the distribution system at the same point in the distribution system and at the same time as total coliforms are sampled, as specified in § 141.21. * * *

* * * * *

13. Amend § 141.133 by:

a. In the first sentence of paragraph (a)(1), revising “system's failure” to read “system fails”;

b. In paragraph (b), removing the last two sentences of paragraph (b)(1)(i), revising paragraphs (b)(1) (ii) and (iii), and adding new paragraph (b)(1)(iv);

c. In paragraph (c), removing the phrase “of quarterly averages” in the second sentence of paragraph (c)(1)(i) and adding the phrase “in addition to reporting to the State pursuant to § 141.134” to the end of the second and third sentences in paragraph (c)(2)(i) and the second and third sentences of paragraph (c)(2)(ii); and

d. In paragraph (d), revising the reference “§ 141.135(b)” in the first sentence to read “§ 141.135(c)” and adding a sentence to the end of the paragraph.

The additions and revisions as follows

§ 141.133 Compliance requirements.

* * * * *

(b) * * *

(1) * * *

(ii) For systems monitoring less frequently than quarterly, systems demonstrate MCL compliance if the average of samples taken that year under the provisions of § 141.132(b)(1) does not exceed the MCLs in § 141.64. If the average of these samples exceeds the MCL, the system must increase monitoring to once per quarter per treatment plant and such a system is not in violation of the MCL until it has completed one year of quarterly monitoring, unless the result of fewer than four quarters of monitoring will cause the running annual average to exceed the MCL, in which case the system is in violation at the end of that quarter. Systems required to increase monitoring frequency to quarterly monitoring must calculate compliance by including the sample which triggered the increased monitoring plus the following three quarters of monitoring.

(iii) If the running annual arithmetic average of quarterly averages covering any consecutive four-quarter period exceeds the MCL, the system is in violation of the MCL and must notify the public pursuant to § 141.32 or § 141.202, whichever is effective for your system, in addition to reporting to the State pursuant to § 141.134.

(iv) If a PWS fails to complete four consecutive quarters of monitoring, compliance with the MCL for the last four-quarter compliance period must be based on an average of the available data.

* * * * *

(d) * * * For systems required to meet Step 1 TOC removals, if the value calculated under § 141.135(c)(1)(iv) is less than 1.00, the system is in violation of the treatment technique requirements and must notify the public pursuant to § 141.32, in addition to reporting to the State pursuant to § 141.134.

14. Amend § 141.134 by:

a. In paragraph (b), revising the table;

b. In paragraph (c), revising the table; and

c. In paragraph (d), revising the first entry in the table, designating the second entry in the first column as (2), and redesignating its corresponding entries in the second column as (i) through (ix).

The revisions read as follows:

§ 141.134 Reporting and recordkeeping requirements.

* * * * *

(b) * * *

If you are a * * * | You must report * * *
(1) System monitoring for TTHMs and HAA5 under the requirements of § 141.132(b) on a quarterly or more frequent basis. | (i) The number of samples taken during the last quarter. (ii) The location, date, and result of each sample taken during the last quarter. (iii) The arithmetic average of all samples taken in the last quarter. (iv) The annual arithmetic average of the quarterly arithmetic averages of this section for the last four quarters. (v) Whether, based on § 141.133(b)(1), the MCL was violated.
(2) System monitoring for TTHMs and HAA5 under the requirements of § 141.132(b) less frequently than quarterly (but as least annually). | (i) The number of samples taken during the last year. (ii) The location, date, and result of each sample taken during the last monitoring period. (iii) The arithmetic average of all samples taken over the last year. (iv) Whether, based on § 141.133(b)(1), the MCL was violated.
(3) System monitoring for TTHMs and HAA5 under the requriements of § 141.132(b) less frequently than annually. | (i) The location, date, and result of each sample taken (ii) Whether, based on § 141.133(b)(1), the MCL was violated.
(4) System monitoring for chlorite under the requirements of § 141.132(b) | (i) The number of entry point samples taken each month for the last 3 months. (ii) The location, date, and result of each sample (both entry point and distribution system) taken during the last quarter. (iii) For each month in the reporting period, the arithmetic average of all samples taken in each three samples set taken in the distribution system. (iv) Whether, based on § 141.133(b)(3), the MCL was violated, in which month, and how many times it was violated each month.
(5) System monitoring for bromate under the requirements of § 141.132(b). | (i)The number of samples taken during the last quarter. (ii)The location, date, and result of each sample taken during the last quarter. (iii) The arithmetic average of the monthly arithmetic averages of all samples taken in the last year. (iv) Whether, based on § 141.133(b)(2), the MCL was violated.
¹ The State may choose to perform calculations and determine whether the MCL was exceeded, in lieu of having the system report that information

(c) * * *

If you are a * * * | You must report * * *
(1) System monitoring for chlorine or chloramines under the requirements of § 141.132(c) | (i) The number of samples taken during each month of the last quarter. (ii) The month arithmetic average of all samples taken in each month for the last 12 months. (iii) The arithmetic average of the monthly averages for the last 12 months. (iv) Whether, based on § 141.133(c)(1), the MRD was violated.
(2) System monitoring for chlorine dioxide under the requirements of § 141.132(c). | (i) The dates, result, and locations of samples taken during the last quarter. (ii) Whether, based on § 141.133(c)(2), the MRDL was violated. (iii) Whether the MRDL was exceeded in any two consecutive daily samples and whether the resulting violation was acuate or nonacute.
¹ The State may choose to perform calculations and determine whether the MRDL was exceeded, in lieu of having the system report that information.

(d) * * *

If you are a * * * | You must report * * *
(1) System monitoring monthly or quarterly for TOC under the requirements of § 141.132(d) and required to meet the enhanced coagulation or enhanced softening requirements in § 141.135(b)(2) or (3) | (i) The number of paired (source water and treated water) samples taken during the last quarter. (ii) The location, date, and results of each paired sample and associated alkalinity taken during the last quarter. (iii) For each month in the reporting period that paired samples were taken, the arithmetic average of the percent reduction of TOC for each paired sample and the required TOC percent removal. (iv) Calculations for determining compliance with the TOC prevent removal requirements, as provided in § 141.135(c)(1). (v) Whether the system is in compliance with the ehnanced coagulation or enhanced softening percent removal requirements in § 141.135(b) in § 141.135(b) for the last four quarters.
* * * * * * *
¹ The State may choose to perform calculations and determine whether the treatment technique was met, in lieu of having the system report taht information.

§ 141.135 [Amended]

15. Amend § 1A141.135 by:

a. In paragraph (a)(2)(iii), revising “as required by” in the first sentence to read “according to”, and revising “June 16, 2005” in the third sentence to read “June 30, 2005”;

b. In paragraph (b)(2), revising the table;

c. In paragraph (b)(4), removing the phrase “(as aluminum)” wherever it appears and revising the introductory text; and

d. In paragraph (c)(1), revising the table;

The revisions read as follows:

§ 141.135 Treatment technique for control of disinfection byproduct (DBP) precursors.

* * * * *

(b) * * *

(2) * * *

Step 1 Required Removal of TOC by Enhanced Coagulation and Enhanced Softening for Subpart H Systems Using Conventional Treatment 1 2
Source-water TOC, mg/L | Source-water alkalinity, mg/L as CaCO 3 (in precentages): 0-60 | Source-water alkalinity, mg/L as CaCO 3 (in precentages): >60-120 | Source-water alkalinity, mg/L as CaCO 3 (in precentages): >120 ³
>2.0-4.0 | 35.0 | 25.0 | 15.0
>4.0-8.0 | 45.0 | 35.0 | 25.0
>8.0. | 50.0 | 40.0 | 30.0
¹ Systems meeting at least one of the conditions in paragraph (a)(2)(i)-(vi) of this section are not required to operate with enhanced coagulation.
² Softening system meeting one of the alternative compliance criteria in paragraph (a)(3) of this section are not required to operate with enhanced softening.
³ System practicing softening must meet the TOC removal requirements in this column.

(3) * * *

(4) Alternate minimum TOC removal (Step 2) requirements. Applications made to the State by enhanced coagulation systems for approval of alternate minimum TOC removal (Step 2) requirements under paragraph (b)(3) of this section must include, at a minimum, results of bench- or pilot-scale testing conducted under paragraph (b)(4)(i) of this section. The submitted bench- or pilot-scale testing must be used to determine the alternate enhanced coagulation level.

* * * * *

(c) * * *

(1) Subpart H systems other than those identified in paragraph (a)(2) or (a)(3) of this section must comply with requirements contained in paragraph (b)(2) or (b)(3) of this section. * * *

* * * * *

§ 141.170 [Amended]

16. Section 141.170(a) is amended in the introductory text by revising “December 17, 2001” to read “January 1, 2002”.

§ 141.172 [Amended]

17. Amend § 141.172 by:

a. In paragraph (a)(2)(iii)(A), revising “March 16, 2000” to read “March 31, 2000”;

b. In paragraph (a)(5), revising “December 16, 1999” to read “December 31, 1999” wherever it appears;

c. In paragraph (a)(5)(iii), revising “March 16, 2000” to read “March 31, 2000”;

d. In the introductory text of paragraph (b)(2), revising “March 16, 2000” to read “April 1, 2000”;

e. In paragraph (b)(3)(i), revising “March 16, 2000” to read “March 31, 2000”; and

f. In paragraph (b)(4)(ii), revising the last sentence to read:

§ 141.172 Disinfection profiling and benchmarking.

* * * * *

(b) * * *

(4) * * *

(ii) * * * The (CTcalc/CT99.9) value of each segment and (Σ(CTcalc/CT99.9)) must be calculated using the method in paragraph (b)(4)(i) of this section.

* * * * *

§ 141.173 [Amended]

18.-19. In § 141.173, amend the introductory text by revising “December 17, 2001” to read “December 31, 2001”.

§ 141.175 [Amended]

20. Amend § 141.175 by revising the two occurrences of “December 17, 2001” to read “January 1, 2002” in the introductory text and adding paragraph (c);

§ 141.175 Reporting and recordkeeping requirements

* * * * *

(c) Additional reporting requirements.

(1) If at any time the turbidity exceeds 1 NTU in representative samples of filtered water in a system using conventional filtration treatment or direct filtration, the system must inform the State as soon as possible, but no later than the end of the next business day.

(2) If at any time the turbidity in representative samples of filtered water exceeds the maximum level set by the State under § 141.173(b) for filtration technologies other than conventional filtration treatment, direct filtration, slow sand filtration, or diatomaceous earth filtration, the system must inform the State as soon as possible, but no later than the end of the next business day.

PART 142—NATIONAL PRIMARY DRINKING WATER REGULATIONS IMPLEMENTATION

21. The authority citation for part 142 continues to read as follows:

Authority: 42 U.S.C. 300f, 300g, 300g-1, 300g-2, 300g-3, 300g-4, 300g-5, 300g-6, 300j-4, 300j-9, and 300J-11.

22. In § 142.12, revise paragraph (b)(3)(i) and the last sentence of (d)(2), to read as follows:

§ 142.12 Revision of state programs

* * * * *

(b) * * *

(3) * * *

(i) Informing public water systems of the new EPA (and upcoming State) requirements and that EPA will be overseeing implementation of the requirements until the State, if eligible for interim primacy, submits a complete and final primacy revision request to EPA, or in all other cases, until EPA approves the State program revision;

* * * * *

(d) * * *

(2) Final request. * * * Complete and final State requests for program revisions shall be submitted within two years of the promulgation of the new or revised EPA regulations, as specified in paragraph (b) of this section.

* * * * *

§ 142.15 [Amended]

23. In the first sentence of paragraph (c)(5), revise the reference “§ 141.16(b)(3)” to read “§ 142.16(b)(3)”.

[FR Doc. 01-655 Filed 1-12-01; 8:45 am]

BILLING CODE 6560-50-P